DEPARTMENT OF TRANSPORTATION

Federal Transit Administration

[Safety Advisory 20-1]

Recommended Actions To Reduce the Risk of Coronavirus Disease 2019 (COVID-19) Among Transit Employees and Passengers

AGENCY: Federal Transit Administration (FTA), Department of Transportation (DOT).

ACTION: Notice of Safety Advisory.

SUMMARY: During the COVID-19 public health emergency, transit agencies across the country are continuing to provide millions of trips a day to lifeline services and to carry healthcare and other essential workers to critical jobs. FTA has published Safety Advisory 20-1 recommending that transit agencies develop and implement procedures and practices consistent with all applicable guidance and information provided by the Centers for Disease Control and Prevention (CDC) and the Occupational Safety and Health Administration (OSHA) to ensure the continued safety of transit passengers and employees. A copy of Safety Advisory 20-1 can be found on the FTA website at https://www.transit.dot.gov/coronavirus.

FOR FURTHER INFORMATION CONTACT: Henrika Buchanan, Associate Administrator for Transit Safety and Oversight and Chief Safety Officer, FTA, 1200 New Jersey Avenue SE, Washington, DC 20590, telephone (202) 366-1783 or henrika.buchanan@dot.gov.

K. Jane Williams,
Acting Administrator.

[FR Doc. 2020-08160 Filed 4-16-20; 8:45 am]

BILLING CODE 4910-57-P